DEPARTMENT OF HOMELAND SECURITY

Federal Emergency Management Agency

[Docket ID FEMA-2011-0023; OMB No. 1660-New]

Agency Information Collection Activities: Submission for OMB review; Comment Request; State Preparedness Report

AGENCY: Federal Emergency Management Agency, DHS.

ACTION: Notice.

SUMMARY: The Federal Emergency Management Agency (FEMA) is submitting a request for review and approval of a collection of information under the emergency processing procedures in Office of Management and Budget (OMB) regulation 5 CFR 1320.13. FEMA is requesting that this information collection be approved by November 1, 2011. The approval will authorize FEMA to use the collection through May 1, 2012. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

DATES: Comments must be submitted to OMB on or before October 24, 2011. You may submit comments to FEMA on or before November 21, 2011.

ADDRESSES: Submit written comments on the proposed information collection to the Office of Information and Regulatory Affairs, Office of Management and Budget. Comments should be addressed to the Desk Officer for the Department of Homeland Security, Federal Emergency Management Agency, (Proposed New Information Collection—State Preparedness Report) and sent via electronic mail to oira.submission@omb.eop.gov or faxed to (202) 395-5806. Comments may also be submitted to the following:

(1) Online. Submit comments at http://www.regulations.gov under Docket ID FEMA-2011-0023. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0023 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Requests for additional information or copies of the information collection should be made to Director, Records Management Division, Office of the Chief Administrative Officer, Mission Support Bureau, Federal Emergency Management Agency, 1800 South Bell Street, Arlington, VA 20598-3005, facsimile number (202) 646-3347, or at e-mail address FEMA-Information-Collections@dhs.gov.

SUPPLEMENTARY INFORMATION:

The Post-Katrina Emergency Management Reform Act of 2006 (PKEMRA), Public Law 109-205, as amended by the Implementing Recommendations of the 9/11 Commission Act of 2007, Public Law 110-53, established an annual requirement for a State Preparedness Report (SPR). A State receiving Federal preparedness assistance administered by the Federal Emergency Management Agency (FEMA) must submit a report to the FEMA Administrator on the State's level of preparedness. Each report must include an assessment of current capability levels and a description of target capability levels, and an assessment of resources needed to meet the preparedness priorities established under PKEMRA Section 646(e). The resource assessments must include (i) An estimate of the amount of expenditures required to attain the preparedness priorities; and (ii) the extent to which the use of Federal assistance during the preceding fiscal year achieved the preparedness priorities.

In order to comply with PKEMRA's requirement for annual assessments, the SPR data needs to be collected from States by the end of calendar year 2011.The use of normal clearance procedures will not allow timely collection of this information until 2012. Emergency authorization is thus necessary to comply with the requirements of PKEMRA.

Collection of Information:

Title: State Preparedness Report.

Type of Information Collection: New Collection.

OMB Number: 1660-New.

Abstract: This collection is a Web-based tool that will be used with the National Incident Management System Compliance Assessment Support Tool (NIMSCAST). The information will be used to generate a State Preparedness Report and will be shared throughout FEMA, to inform other programs that rely on preparedness assessments to chart strategic direction. The information will also be used by FEMA to conduct analyses and draft the National Preparedness Report (NPR).

Affected Public: State, Local or Tribal Government.

Number of Respondents: 56.

Estimated Time per Respondent: 66 hours.

Estimated Total Annual Burden Hours: 3,696 hours.

Estimated Cost: There are no recordkeeping, capital, start-up or maintenance costs associated with this information collection.

Frequency of Response: Annually.

Comments: Written comments are solicited to (a) Evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide FEMA with a copy of your comments. FEMA will continue to accept comments from interested persons through November 21, 2011. Submit comments to the FEMA address listed in the FOR FURTHER INFORMATION CONTACT caption.

Dated: September 15, 2011.
Nicole Bouchet,
Acting, Director, Records Management Division, Office of the Chief Administrative Office. Mission Support Bureau, Federal Emergency Management Agency, Department of Homeland Security.

[FR Doc. 2011-24327 Filed 9-21-11; 8:45 am]

BILLING CODE 9111-46-P